DEPARTMENT OF COMMERCE

National Oceanic and Atmospheric Administration

[I.D. 020706B]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a meeting of its Snapper Grouper Committee, Ecosystem-Based Management Committee, Scientific and Statistical Selection Committee (CLOSED SESSION), Advisory Panel Selection Committee (CLOSED SESSION), Protected Resources Committee, Joint Executive/Finance Committees, Information and Education Committee, and a meeting of the full Council.

DATES: The meeting will be held on February 27 through March 3, 2006. See SUPPLEMENTARY INFORMATION for specific dates and times.

ADDRESSES: The meeting will be held at the Jekyll Island Club, 371 Riverview Drive, Jekyll Island, GA 31527; telephone: (1-800) 535-9547 or (912) 635-2600, fax: (912) 635-2818.

Council address: South Atlantic Fishery Management Council, One Southpark Circle, Suite 306, Charleston, SC 29407- 4699.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Snapper Grouper Committee Meeting: February 27, 2006, 1:30 p.m. - 5:30 p.m. and February 28, 2006, from 8:30 a.m. - 12 noon

The Snapper Grouper Committee will receive a report and recommendations from the Law Enforcement Committee and Advisory Panel regarding Amendments 14 and 15 to the Snapper Grouper Fishery Management Plan. Amendment 14 addresses the use marine protected areas for deepwater snapper grouper species; Amendment 15 addresses rebuilding schedules for snowy grouper, golden tilefish, black sea bass, and red porgy; recreational sale; permit issues (incorporation and 60-day renewal), size limits for queen triggerfish, and fishing year changes for golden tilefish.

The Committee will develop recommendations on the final list of alternatives for both draft Amendment 14 and draft Amendment 15. In addition, the Committee will review and revise appointments to the Oculina Evaluation Team and receive presentations from NOAA's National Marine Fisheries Service regarding the use of electronic logbooks in the snapper grouper fishery, and evaluation of paper logbooks versus trip tickets in both the snapper grouper and mackerel fisheries.

2. Ecosystem-Based Management Committee Meeting: February 28, 2006, 1:30 p.m. - 6 p.m. and March 1, 2006, 8:30 a.m. - 12 noon

The Ecosystem-Based Management Committee will receive an update on the development of the Fishery Ecosystem Plan (FEP), and presentations on the following:

Mapping data from the Atlantic Coastal Cooperative Statistics Program (ACCSP), ocean observing systems and fisheries oceanography, NOAA's Ocean Exploration Program, and the Council's Habitat and Ecosystem web page and internet mapping system. The Committee will participate in an interactive demonstration of the Council's Ecosystem/Internet Mapping website. In addition, the Committee will review and revise a list of items to be included in the Council's FEP Comprehensive Amendment.

3. Advisory Panel Selection Committee Meeting: March 1, 2006, 1:30 p.m. - 3:30 p.m. (CLOSED SESSION)

The Advisory Panel Selection Committee will meet to review applications for open seats on the advisory panels and develop recommendations for Council.

4. Scientific and Statistical Selection Committee Meeting: March 1, 2006, 3:30 p.m. until 5 p.m. (CLOSED SESSION)

The Scientific and Statistical Selection Committee will meet to review policy recommendations, review applications for members of the SSC, and develop recommendations for the Council.

5. Protected Resources Committee Meeting: March 2, 2006, 8:30 a.m. until 10:30 a.m.

The Protected Resources Committee will receive a presentation on the feasibility of offshore wind energy production off the coast of Georgia, receive an update from NOAA Fisheries Southeast Regional Office's Protected Resources Division, and an update on the Council's accomplishments.

6. Joint Executive/Finance Committee Meeting: March 2, 2006, 10:30 a.m. - 12 noon

The Executive Committee will meet jointly with the Finance Committee and receive updates on the Council's Calendar Year (CY) 2006 budget and activities schedule and the President's Fiscal Year 2007 budget. The Committees will also review a draft Regional Operating Agreement between the Council and NOAA's National Marine Fisheries Service's Southeast Regional Office regarding fishery management plan development teams. The Committees will also discuss attendance at upcoming workshops for the Southeast Data, Assessment, and Review (SEDAR) stock assessment process.

7. Information and Education Committee Meeting: March 2, 2006, 1:30 p.m. - 3 p.m.

The Information and Education Committee will meet to review and develop recommendations on the Council's website redesign and upgrade and review the Council's current newsletter regarding options for printing and distribution.

8. Council Session: March 2, 2006, 3 p.m. - 5:30 p.m. and March 3, 2006, 8:30 a.m. - 12 noon

From 3 p.m. - 3:15 p.m., the Council will call the meeting to order, adopt the agenda, and approve the December 2005 meeting minutes.

From 3:15 p.m. - 4:15 p.m., the Council will receive a presentation from the U.S. Coast Guard regarding the use of Automatic Identification Systems (AIS) and the mandatory use aboard commercial fishing vessels.

From 4:15 p.m. - 5 p.m., the Council will receive a presentation regarding a proposed Navy sonar range off the coast of North Carolina.

From 5 p.m. - 5:15 p.m., the Council will hear a report from the Protected Resources Committee and take other action as appropriate.

From 5:15 p.m. - 5:30 p.m., the Council will hear a report from the Ecosystem-Based Management Committee and take action as appropriate.

Council Session: March 3, 2006, 8:30 a.m. - 12 noon.

From 8:30 a.m. - 9 a.m., the Council will receive a report from the Snapper Grouper Committee and take action as appropriate.

From 9 a.m. - 9:30 a.m., the Council will receive a report from the Joint Executive/Finance Committees and take action as appropriate.

From 9:30 a.m. - 9:45 a.m., the Council will receive a report from the Scientific and Statistical Selection Committee and take action as appropriate.

From 9:45 a.m. - 10 a.m., the Council will receive a report from the Advisory Panel Selection Committee and take action as appropriate.

From 10 a.m. - 12 noon, the Council will receive a report on the Council Chairmen's/NMFS Leadership meetings and receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by February 24, 2006.

Dated: February 8, 2006.
Tracey L. Thompson,
Acting Director, Office of Sustainable Fisheries, National Marine Fisheries Service.

[FR Doc. E6-1968 Filed 2-10-06; 8:45 am]

BILLING CODE 3510-22-S